Proclamation 8676 of May 13, 2011

Peace Officers Memorial Day and Police Week, 2011

By the President of the United States of America

A Proclamation

Our Nation’s public safety officers are heroes who risk their lives to keep our families and communities safe. Each of these brave men and women goes to work not knowing what dangers might lie ahead, making tremendous sacrifices to uphold justice and protect the innocent. This week, we extend our gratitude for their service to our country. We also remember those killed in the line of duty, and we mourn their loss and honor the loved ones they left behind.

Our law enforcement personnel are dedicated to the communities they serve, working tirelessly to transform neighborhoods across our country. Despite facing budget constraints and daily threats, public safety officers embrace innovative approaches to improving our Nation and upholding the rule of law.

Public safety officers put their lives on the line to protect ours, sometimes making the ultimate sacrifice. One death is too many, and every death is an unfathomable loss to the officer’s family, colleagues, and community. In the past year, we have seen a tragic wave of police officer fatalities, and have mourned the loss of too many public safety officers. This year also marks 10 years since the tragedy of September 11. We will always remember the selfless courage shown by police officers, fire fighters, and first responders in New York City, Pennsylvania, and at the Pentagon who rushed into unknown dangers to save the lives of others. Their service—and the service of all who have worn the badge—will never be forgotten.

While we can never adequately thank our law enforcement officers for their service, we can use every tool at our disposal to protect them on the job. My Administration is committed to stopping senseless tragedies and keeping our police safe. We will continue to provide funding for resources to keep cops on the street and to collaborate with law enforcement agencies and organizations to develop strategies that reduce injuries and deaths in the line of duty. We have also launched the new Preventing Violence Against Law Enforcement and Ensuring Officer Resilience and Survivability (VALOR) initiative, designed to reduce and prevent law enforcement officer injuries and line-of-duty deaths.

We know that bullet-resistant vests and body armor can save lives. After consulting with members of the law enforcement community, we instituted a new mandatory wear policy as part of our Bulletproof Vest Partnership program beginning this year. We will also continue to seek more efficient ways to share information and invest in evidence-based, smart-on-crime approaches to fighting crime. Moreover, if tragedy does strike, we will provide support to the families of law enforcement officers.

As we commemorate Peace Officers Memorial Day and Police Week, we honor the discipline and distinction our peace officers have shown in conditions we can only imagine. They are continually called upon to remain vigilant and take courageous action. As a country, we promise to stand beside our public safety community and do our part to help keep America safe and secure.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, BARACK OBAMA, President of the United States of America, do hereby proclaim May 15, 2011, as Peace Officers Memorial Day and May 15 through May 21, 2011, as Police Week. I call upon all Americans to observe these events with appropriate ceremonies and activities. I also call on Governors of the United States and the Commonwealth of Puerto Rico, officials of the other territories subject to the jurisdiction of the United States, and appropriate officials of all units of government, to direct that the flag be flown at half-staff on Peace Officers Memorial Day. I further encourage all Americans to display the flag at half-staff from their homes and businesses on that day.

IN WITNESS WHEREOF, I have hereunto set my hand this thirteenth day of May, in the year of our Lord two thousand eleven, and of the Independence of the United States of America the two hundred and thirty-fifth.

[FR Doc. 2011-12548

Filed 5-18-11; 11:15 am]

Billing code 3195-W1-P